CONSUMER PRODUCT SAFETY COMMISSION

[Docket No. CPSC-2012-0019]

Proposed Collection; Comment Request; Safety Standards for Full-Size Baby Cribs and Non-Full-Size Baby Cribs; Compliance Form

AGENCY: Consumer Product Safety Commission.

ACTION: Notice.

SUMMARY: As required by the Paperwork Reduction Act of 1995 (44 U.S.C. Chapter 35), the Consumer Product Safety Commission (“CPSC” or “Commission”) requests comments on a proposed collection of information regarding a form that will be used to measure child care centers' compliance with the recent CPSC safety standards for full-size and non-full-size cribs. The Commission will consider all comments received in response to this notice before requesting approval of this collection of information from the Office of Management and Budget.

DATES: Written comments must be received by the Office of the Secretary not later than June 15, 2012.

ADDRESSES: You may submit comments, identified by Docket No. CPSC-2012- 0019, by any of the following methods:

Submit electronic comments in the following way:

Federal eRulemaking Portal: http://www.regulations.gov. Follow the instructions for submitting comments. To ensure timely processing of comments, the Commission is no longer accepting comments submitted by electronic mail (email), except through www.regulations.gov.

Submit written submissions in the following way:

Mail/Hand delivery/Courier (for paper, disk, or CD-ROM submissions), preferably in five copies, to: Office of the Secretary, Consumer Product Safety Commission, Room 820, 4330 East West Highway, Bethesda, MD 20814; telephone (301) 504-7923.

Instructions: All submissions received must include the agency name and docket number for this notice. All comments received may be posted without change, including any personal identifiers, contact information, or other personal information provided, to http://www.regulations.gov. Do not submit confidential business information, trade secret information, or other sensitive or protected information electronically. Such information should be submitted in writing.

Docket: For access to the docket to read background documents or comments received, go to http://www.regulations.gov. A copy of the draft compliance form is available at http://regulations.gov under Docket No. CPSC-2012-0019, Supporting and Related Materials.

FOR FURTHER INFORMATION CONTACT: For information about the proposed collection of information call or write Patrick Weddle, Office of Information Technology and Technology Services, Consumer Product Safety Commission, 4330 East West Highway, Bethesda, MD 20814; telephone: (301) 504-7654 or by email to pweddle@cpsc.gov.

SUPPLEMENTARY INFORMATION:

A. Background

Section 104(b) of the Consumer Product Safety Improvement Act of 2008 (“CPSIA”) requires the CPSC to promulgate consumer product safety standards for durable infant or toddler products. These standards are to be substantially the same as applicable voluntary standards or more stringent than the voluntary standard if the Commission concludes that more stringent requirements would further reduce the risk of injury associated with the product.

On December 28, 2010, we issued a final rule establishing safety standards for full-size and non-full-size baby cribs in response to the direction under section 104(b) of the CPSIA (75 FR 81766). Section 104(c) of the CPSIA specifies that the crib standards will cover used, as well as new cribs. The crib standards apply to anyone who manufactures, distributes, or contracts to sell a crib; to child care facilities, and others holding themselves out to be knowledgeable about cribs; to anyone who leases, sublets, or otherwise places a crib in the stream of commerce; and to owners and operators of places of public accommodation affecting commerce. The standards require manufacturers and importers of these products to maintain sales records for a period of six years after the manufacture or importation of the cribs and also contain requirements for marking and instructional literature.

CPSC staff intends to visit child care centers to measure compliance with the crib safety standards. Information from those visits would be recorded on a “Verification of Compliance Form.” CPSC investigators or designated state or local government officials will use the form, which will be filled out entirely at the site during the normal course of the visit. The Commission intends to use the information to measure compliance with the crib safety standards and to develop an enforcement strategy.

We intend to begin with a pilot program in 2012, that would involve conducting visits to approximately 70 child care centers in seven states. Depending on the results of the pilot program, we would expand the program in 2013, although expansion of the program's size would depend upon the availability of CPSC resources.

B. Estimated Burden

CPSC staff estimates that there may be approximately 70 inspections during the pilot program in 2012. Because the investigators will be talking to the child care facility staff at the time of the inspection and asking questions to help complete the form, CPSC staff estimates that the burden hours for child care facility staff to respond to the questions will be approximately a quarter of an hour per inspection. Thus, the estimated total annual burden hours for respondents are approximately 17.5 hours (70 inspections × a quarter of an hour per inspection). CPSC staff estimates that the annualized cost to all respondents is approximately $383.43 based on an hourly wage of $21.91 per hour ($21.91 × 17.5). (Bureau of Labor Statistics (“BLS”), total compensation for all workers, sales and office for service-producing industries, Employer Costs for Employee Compensation Table 9, September 2011).

CPSC staff estimates that it will take an average of a quarter of an hour to review the information collected. The annual cost to the federal government of the collection of information in these regulations is estimated to be $704.26. This is based on an average wage rate of $28.13 (the equivalent of a GS-9 Step 5 employee). This represents 69.9 percent of total compensation (Bureau of Labor Statistics, September 2011, percentage wages and salaries for all civilian management, professional, and related employees, Table 1). Adding an additional 30.1 percent for benefits brings the average hourly compensation for a GS-9 Step 5 employee to $40.24. Thus, 35 hours for conducting and reviewing (17.5 hours plus 17.5 hours) the information multiplied against an hourly compensation figure of $40.24 results in an estimated cost to the government of $1,408.40.

C. Request for Comments

The Commission solicits written comments from all interested persons about the proposed collection of information. The Commission specifically solicits information relevant to the following topics:

• Whether the collection of information described above is necessary for the proper performance of the Commission's functions, including whether the information would have practical utility;

• Whether the estimated burden of the proposed collection of information is accurate;

• Whether the quality, utility, and clarity of the information to be collected could be enhanced; and

• Whether the burden imposed by the collection of information could be minimized by use of automated, electronic, or other technological collection techniques, or other forms of information technology.

Dated: April 10, 2012.
Todd A. Stevenson,
Secretary, Consumer Product Safety Commission.

[FR Doc. 2012-9039 Filed 4-13-12; 8:45 am]

BILLING CODE 6355-01-P